DEPARTMENT OF AGRICULTURE

Animal and Plant Health Inspection Service

[Docket No. APHIS-2021-0072]

Notice of Request for Extension of Approval of an Information Collection; Agriculture Organisms and Vectors; Import and Transport Permits

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for safe importation and transport of organisms and vectors.

DATES: We will consider all comments that we receive on or before January 18, 2022.

ADDRESSES: You may submit comments by either of the following methods:

• Federal eRulemaking Portal: Go to www.regulations.gov. Enter APHIS-2021-0072 in the Search field. Select the Documents tab, then select the Comment button in the list of documents.

• Postal Mail/Commercial Delivery: Send your comment to Docket No. APHIS-2021-0072, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding the VS permitting process for organisms and vectors, contact Dr. Troy T. Bigelow, Senior Staff Veterinarian, Organisms and Vectors Permitting, Animal Products Import and Export, Strategy and Policy, VS, APHIS, 1920 Dayton Avenue, Ames, IA 50010, (301) 851-3464. For more information on the information collection reporting process, contact Mr. Joseph Moxey, APHIS' Paperwork Reduction Act Coordinator, at (301) 851-2483; joseph.moxey@usda.gov.

SUPPLEMENTARY INFORMATION:

Title: Agriculture Organisms and Vectors; Import and Transport Permits.

OMB Control Number: 0579-0213.

Type of Request: Extension of approval of an information collection.

Abstract: The Animal Health Protection Act (AHPA) of 2002 (7 U.S.C. 8301 et seq.) authorizes the U.S. Department of Agriculture (USDA) to oversee the importation, entry, and movement in the United States of animals, pests or diseases, or any material or tangible object that could harbor them. Under the AHPA, USDA regulates certain organisms, vectors, and animal products that could pose a severe threat to animal health or to animal products through the risk of disease or pest introduction.

The Animal and Plant Health Inspection Service (APHIS) has the primary responsibility for implementing the provisions of the AHPA within USDA. APHIS regulations for these activities are contained in 9 CFR part 94 (animals and animal products), 9 CFR part 95 (animal byproducts), and 9 CFR part 122 (organisms and vectors). There is also a requirement for an individual or entity, unless specifically exempted under the regulations, to apply for and be granted, by APHIS, a permit authorizing specific import or transport activities for regulated materials prior to receipt of the requested materials.

The permit application process entails the use of forms designed to obtain critical information concerning individuals or entities seeking a permit, as well as the specific characteristics of the material to be permitted. This data is needed, in part, to allow APHIS to assess the risk of importing or transporting the material, as well as the biosecurity and biosafety mitigations in place at the receiving location. This, in turn, enables APHIS to ensure that appropriate safeguard, containment, and disposal requirements commensurate with the risk of the materials are implemented during transport, import, and upon receipt to protect against the spread or introduction of disease.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.84 hours per response.

Respondents: Researchers, universities, research and development organizations, diagnostic laboratories, and other interested parties who possess, use, or transfer select agents or toxins.

Estimated annual number of respondents: 3,154.

Estimated annual number of responses per respondent: 1.

Estimated annual number of responses: 3,283.

Estimated total annual burden on respondents: 6,055 hours. (Due to averaging, the total annual burden hours may not equal the product of the annual number of responses multiplied by the reporting burden per response.)

All responses to this notice will be summarized and included in the request for OMB approval. All comments will also become a matter of public record.

Done in Washington, DC, this 9th day of November 2021.
Jack Shere,
Administrator, Animal and Plant Health Inspection Service.

[FR Doc. 2021-24925 Filed 11-15-21; 8:45 am]

BILLING CODE 3410-34-P